DEPARTMENT OF LABOR

Employment and Training Administration

[TA-W-40,779]

Bulk Lift International, Carpentersville, IL; Notice of Termination of Investigation

Pursuant to section 221 of the Trade Act of 1974, an investigation was initiated on February 11, 2002 in response to a worker petition, which was filed, by the Union of Needletrades, Industrial and Textile Workers, Chicago and Central States Joint Board on behalf of workers at Bulk Lift International, Carpentersville, Illinois.

The petitioner has requested that the petition be withdrawn. Consequently, further investigation in this case would serve no purpose, and the investigation has been terminated.

Signed in Washington, DC, this 26th day of June, 2002.
Linda G. Poole,
Certifying Officer, Division of Trade Adjustment Assistance.

[FR Doc. 02-17134 Filed 7-8-02; 8:45 am]

BILLING CODE 4510-30-P